OFFICE OF MANAGEMENT AND BUDGET

Office of Federal Procurement Policy

DEPARTMENT OF DEFENSE

GENERAL SERVICES ADMINISTRATION

NATIONAL AERONAUTICS AND SPACE ADMINISTRATION

[OMB Control No. 9000-0075; Docket No. 2025-0053; Sequence No. 3]

Submission for OMB Review; Government Property

AGENCY: Office of Federal Procurement Policy (OFPP), Office of Management and Budget (OMB); Department of Defense (DOD); General Services Administration (GSA); and National Aeronautics and Space Administration (NASA).

ACTION: Notice.

SUMMARY: Under the provisions of the Paperwork Reduction Act, the Regulatory Secretariat Division has submitted to OMB a request to review and approve an extension of a previously approved information collection requirement regarding Government property.

DATES: Submit comments on or before June 26, 2025

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and Any Associated Form(s)

9000-0075, Government Property, Standard Forms 1428, and 1429.

B. Need and Uses

This clearance covers the information that offerors and contractors must submit to comply with the following FAR requirements:

1. FAR clause 52.245-1, Government Property.

a. Paragraph (f)(1)(ii) requires contractors to document the receipt of Government property.

b. Paragraph (f)(1)(ii)(A) requires contractors to submit a written statement to the Property Administrator containing all relevant facts, such as cause or condition and a recommended course(s) of action, if overages, shortages, or damages and/or other discrepancies are discovered upon receipt of Government-furnished property.

c. Paragraph (f)(1)(iii) requires contractors to create and maintain records of all Government property accountable to the contract, including Government-furnished and Contractor-acquired property. Property records shall, unless otherwise approved by the Property Administrator, contain the following:

i. The name, part number and description, National Stock Number (if needed for additional item identification tracking and/or disposition), and other data elements as necessary and required in accordance with the terms and conditions of the contract.

ii. Quantity received (or fabricated), issued, and balance-on-hand.

iii. Unit acquisition cost.

iv. Unique-item identifier or equivalent (if available and necessary for individual item tracking).

v. Unit of measure.

vi. Accountable contract number or equivalent code designation.

vii. Location.

viii. Disposition.

ix. Posting reference and date of transaction.

x. Date placed in service (if required in accordance with the terms and conditions of the contract).

When approved by the Property Administrator, contractors may maintain, in lieu of formal property records, a file of appropriately cross-referenced documents evidencing receipt, issue, and use of material that is issued for immediate consumption.

d. Paragraph (f)(1)(iv) requires contractors to periodically perform, record, and disclose physical inventory results during contract performance, including upon completion or termination of the contract.

e. Paragraph (f)(1)(vii)(B) requires contractors, unless otherwise directed by the Property Administrator, to investigate and report all incidents of Government property loss as soon as the facts become known. Such reports shall, at a minimum, contain the following information:

i. Date of incident (if known).

ii. The data elements required under paragraph (f)(1)(iii)(A) of FAR 52.245-1.

iii. Quantity.

iv. Accountable contract number.

v. A statement indicating current or future need.

vi. Unit acquisition cost, or if applicable, estimated sales proceeds, estimated repair or replacement costs.

vii. All known interests in commingled material of which includes Government material.

viii. Cause and corrective action taken or to be taken to prevent recurrence.

ix. A statement that the Government will receive compensation covering the loss of Government property, in the event the Contractor was or will be reimbursed or compensated.

x. Copies of all supporting documentation.

xi. Last known location.

xii. A statement that the property did or did not contain sensitive, export controlled, hazardous, or toxic material, and that the appropriate agencies and authorities were notified.

f. Paragraph (f)(1)(viii) requires contractors to promptly disclose and report Government property in its possession that is excess to contract performance.

g. Paragraph (f)(1)(ix) requires contractors to disclose and report to the Property Administrator the need for replacement and/or capital rehabilitation.

h. Paragraph (f)(1)(x) requires contractors to perform and report to the Property Administrator contract property closeout.

i. Paragraph (f)(2) requires contractors to establish and maintain Government accounting source data, particularly in the areas of recognition of acquisitions, loss of Government property, and disposition of material and equipment.

j. Paragraphs (j)(2) and (3) require contractors to submit inventory disposal schedules to the Plant Clearance Officer using the Standard Form (SF) 1428, Inventory Disposal Schedule and if needed the SF 1429, Inventory Disposal Schedule-Continuation Sheet. Paragraph (j)(2)(iv) requires contractors to provide the following information:

i. Any additional information that may facilitate understanding of the property's intended use.

ii. For work-in-progress, the estimated percentage of completion.

iii. For precious metals in raw or bulk form, the type of metal and estimated weight.

iv. For hazardous material or property contaminated with hazardous material, the type of hazardous material.

v. For metals in mill product form, the form, shape, treatment, hardness, temper, specification (commercial or Government) and dimensions (thickness, width, and length).

2. FAR 52.245-9, Use and Charges. Paragraph (d)(1) of this clause requires contractors submitting a government property rental request to: identify the property for which rental is requested, propose a rental period, and compute an estimated rental charge by using the Contractor's best estimate of rental time in the formulae described in paragraph (e) of FAR clause 52.245-9.

This information is used to facilitate the management of Government property in the possession of the contractor.

C. Annual Burden

Respondents/Recordkeepers: 4,702.

Total Annual Responses: 9,433,560.

Total Burden Hours: 4,662,001 (2,405,041 reporting hours + 2,256,960 recordkeeping hours).

D. Public Comment

A 60-day notice was published in the Federal Register at 90 FR 11970, on March 13, 2025. A comment was received; however, it did not change the estimate of the burden.

Comment: The proposed collection should be reviewed in the same timeline of other agencies. The accuracy of the government property and reporting of the details and information of the case is crucial for record keeping purposes. Reports should be generated within each agency for analysis, perhaps with a certain threshold indicator on a continuous basis to determine significant changes in cost, to determine if the cost is valid or in need of revision to correct original documents.

Response: Consistent with the comment, agencies manage Government property closely. This is a request to the Office of Management and Budget to extend the clearance of a previously approved information collection requirement regarding Government property. There are no program changes. The FAR requirements remain the same.

Obtaining Copies: Requesters may obtain a copy of the information collection documents from the GSA Regulatory Secretariat Division by calling 202-501-4755 or emailing GSARegSec@gsa.gov. Please cite OMB Control No. 9000-0075, Government Property.

Janet Fry,
Director, Federal Acquisition Policy Division, Office of Governmentwide Acquisition Policy, Office of Acquisition Policy, Office of Governmentwide Policy.

[FR Doc. 2025-09468 Filed 5-23-25; 8:45 am]

BILLING CODE 6820-EP-P